DEPARTMENT OF VETERANS AFFAIRS

[OMB Control No. 2900-0017]

Agency Information Collection Activity under OMB Review: VA Fiduciary's Account, Court Appointed Fiduciary's Account, Certificate of Balance on Deposit and Authorization to Disclose Financial Records

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Comments and recommendations for the proposed information collection should be sent by October 21, 2024.

ADDRESSES: To submit comments and recommendations for the proposed information collection, please type the following link into your browser: www.reginfo.gov/public/do/PRAMain, select “Currently under Review—Open for Public Comments”, then search the list for the information collection by Title or “OMB Control No. 2900-0017.”

FOR FURTHER INFORMATION CONTACT: VA PRA information: Maribel Aponte, 202-461-8900, vacopaperworkreduact@va.gov.

SUPPLEMENTARY INFORMATION:

Title: VA Fiduciary's Account (21P-4706b), Court Appointed Fiduciary's Account (21P-4706c), Certificate of Balance on Deposit and Authorization to Disclose Financial Records (21P-4718a).

OMB Control Number: 2900-0017 https://www.reginfo.gov/public/do/PRASearch.

Type of Review: Revision of a previously approved collection.

Abstract: The Department of Veterans Affairs (VA), through its Veterans Benefits Administration (VBA), administers an integrated program of benefits and services established by law for Veterans, service personnel and their survivors. Information is requested by VA Forms 21P-4706b and VA Form 21P-2706c for fiduciaries to submit their annual accountings. VA currently uses VA Form 21P-4718a, as evidence and disclosure to support the accountings submitted by fiduciaries. Regulatory authority is found in 38 U.S.C. 5502 and Public Law 108-454, section 502-504.

An agency may not conduct or sponsor, and a person is not required to respond to a collection of information unless it displays a currently valid OMB control number. The Federal Register Notice with a 60-day comment period soliciting comments on this collection of information was published at 89 FR 58882, July 19, 2024.

Affected Public: Individuals or Households.

Estimated Annual Burden: 10,000.

Estimated Average Burden per Respondent: 60 minutes.

Frequency of Response: One time.

Estimated Number of Respondents: 30,000.

Authority: 44 U.S.C. 3501 et seq.

Dorothy Glasgow,
VA PRA Clearance Officer, (Alt.) Office of Enterprise and Integration, Data Governance Analytics, Department of Veterans Affairs.

[FR Doc. 2024-21520 Filed 9-19-24; 8:45 am]

BILLING CODE 8320-01-P